DEPARTMENT OF TRANSPORTATION

Federal Aviation Administration

14 CFR Part 39

[Docket No. 2002-NM-63-AD]

RIN 2120-AA64

Airworthiness Directives; BAE Systems (Operations) Limited (Jetstream) Model 4101 Airplanes

AGENCY: Federal Aviation Administration, DOT.

ACTION: Notice of proposed rulemaking (NPRM).

SUMMARY: This document proposes the adoption of a new airworthiness directive (AD) that is applicable to all BAE Systems (Operations) Limited (Jetstream) Model 4101 airplanes. This proposal would require repetitive inspections for damage of the horizontal and vertical stabilizer attachment fittings, and corrective action if necessary. This action is necessary to detect and correct damage of the horizontal and vertical stabilizer attachment fittings, which could result in reduced structural integrity of the horizontal and vertical stabilizers and consequent reduced controllability of the airplane. This action is intended to address the identified unsafe condition.

DATES: Comments must be received by December 18, 2003.

ADDRESSES: Submit comments in triplicate to the Federal Aviation Administration (FAA), Transport Airplane Directorate, ANM-114, Attention: Rules Docket No. 2002-NM-63-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-63-AD” in the subject line and need not be submitted in triplicate. Comments sent via the Internet as attached electronic files must be formatted in Microsoft Word 97 or 2000 or ASCII text.

The service information referenced in the proposed rule may be obtained from British Aerospace Regional Aircraft American Support, 13850 Mclearen Road, Herndon, Virginia 20171. This information may be examined at the FAA, Transport Airplane Directorate, 1601 Lind Avenue, SW., Renton, Washington.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-63-AD.” The postcard will be date stamped and returned to the commenter.

Availability of NPRMs

Any person may obtain a copy of this NPRM by submitting a request to the FAA, Transport Airplane Directorate, ANM-114, Attention: Rules Docket No. 2002-NM-63-AD, 1601 Lind Avenue, SW., Renton, Washington 98055-4056.

Discussion

The Civil Aviation Authority (CAA), which is the airworthiness authority for the United Kingdom, notified the FAA that an unsafe condition may exist on all BAE Systems (Operations) Limited (Jetstream) Model 4101 airplanes. The CAA advises that inspections of in-service airplanes have revealed fretting corrosion on the eye-bolt shanks and the lugs of the forward and rear attachment fittings of the horizontal and vertical stabilizers. This condition, if not corrected, could result in reduced structural integrity of the horizontal and vertical stabilizers and consequent reduced controllability of the airplane.

Explanation of Relevant Service Information

BAE Systems (Operations) Limited has issued Service Bulletin J41-55-012, dated October 24, 2002. That service bulletin describes procedures for repetitive detailed inspections for damage of the horizontal and vertical stabilizer attachment fittings, and corrective action if necessary. The procedures include:

• Inspecting bolts for damage such as corrosion and wear, and replacing the bolt with a new bolt if the diameter of the bolt is outside the limits specified in the service bulletin.

• Inspecting the bushings of the horizontal stabilizer attachment fitting and the hole in the vertical stabilizer attachment fitting for corrosion or wear, and replacing the bushing with a new bushing if the internal diameter of the bushing is outside the limits specified in the service bulletin.

• Inspecting the attachment fittings of the horizontal and vertical stabilizers for corrosion or fretting at the lug faces, and blending out corrosion, dents, or scratches within the limits specified in the service bulletin.

• Inspecting the eye bolts for cracking, corrosion, fretting, or degradation of cadmium plating; and replacing the eye bolt with a new bolt if any degradation of the cadmium plating is found; or repairing if any cracking, corrosion, dents, or scratches are found.

BAE Systems (Operations) Limited Service Bulletin J41-55-012 refers to BAE Systems (Operations) Limited Service Bulletin J41-55-002 as an additional source of service information for accomplishing certain actions. The current version of BAE Systems (Operations) Limited Service Bulletin J41-55-002 is Revision 1, dated July 25, 1996.

Accomplishment of the actions specified in BAE Systems (Operations) Limited Service Bulletin J41-55-012 is intended to adequately address the identified unsafe condition. The CAA classified this service bulletin as mandatory and issued British airworthiness directive 005-10-2002 to ensure the continued airworthiness of these airplanes in the United Kingdom.

FAA's Conclusions

This airplane model is manufactured in the United Kingdom and is type certificated for operation in the United States under the provisions of section 21.29 of the Federal Aviation Regulations (14 CFR 21.29) and the applicable bilateral airworthiness agreement. Pursuant to this bilateral airworthiness agreement, the CAA has kept us informed of the situation described above. We have examined the findings of the CAA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service bulletin described previously, except as discussed below.

Differences Between Proposed AD and Service Bulletin J41-55-012

Although BAE Systems (Operations) Limited Service Bulletin J41-55-012 specifies that operators may contact the manufacturer for disposition of certain repair conditions, this proposal would require operators to repair those conditions per a method approved by either us or the CAA (or its delegated agent). In light of the type of repair that would be required to address the unsafe condition, and consistent with existing bilateral airworthiness agreements, we have determined that, for this proposed AD, a repair approved by either us or the CAA would be acceptable for compliance with this proposed AD.

Although the Accomplishment Instructions of BAE Systems (Operations) Limited Service Bulletin J41-55-012 describe procedures for reporting all findings to the manufacturer by completing the Reporting Data Form on Figures 1, 2, 3, and 4 of the service bulletin, this proposed AD would not require this action. We do not need this information from operators.

Cost Impact

The FAA estimates that 57 airplanes of U.S. registry would be affected by this proposed AD, that it would take approximately 120 work hours per airplane to accomplish the proposed actions, and that the average labor rate is $65 per work hour. Based on these figures, the cost impact of the proposed AD on U.S. operators is estimated to be $444,600, or $7,800 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

BAE Systems (Operations) Limited (Formerly British Aerospace Regional Aircraft): Docket 2002-NM-63-AD.

Applicability: All Jetstream Model 4101 airplanes, certificated in any category.

Compliance: Required as indicated, unless accomplished previously.

To detect and correct damage of the horizontal and vertical stabilizer attachment fittings, which could result in reduced structural integrity of the horizontal and vertical stabilizers and consequent reduced controllability of the airplane, accomplish the following:

Service Bulletin References

(a) The following information pertains to the service bulletin referenced in this AD:

(1) The term “service bulletin” as used in this AD means the Accomplishment Instructions of BAE Systems (Operations) Limited Service Bulletin J41-55-012, dated October 24, 2002.

(2) Although the service bulletin referenced in this AD specifies to report all findings to the manufacturer by completing the Reporting Data Form on Figures 1, 2, 3, and 4 of the service bulletin, this AD does not include such a requirement.

(3) Inspections and corrective actions accomplished before the effective date of this AD per BAE Systems (Operations) Limited Service Bulletin J41-55-011, dated January 25, 2002, are acceptable for compliance with the corresponding action required by this AD.

Repetitive Inspections

(b) Within 2 years after the effective date of this AD, perform a detailed inspection for damage of the horizontal and vertical stabilizer attachment fittings by doing all actions in the service bulletin, per the service bulletin. Repeat the inspection at intervals not to exceed 8 years.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Repair

(c) If any damage (cracks, corrosion, wear, fretting) is found during any inspection per paragraph (b) of this AD: Do the applicable corrective action specified in the service bulletin at the time specified in the service bulletin per the service bulletin, except as required by paragraph (d) of this AD.

(d) If any damage is found that is outside the limits specified in the service bulletin, and the service bulletin recommends contacting BAE Systems (Operations) Limited for appropriate action: Before further flight, repair per a method approved by the Manager, International Branch, ANM-116, FAA, Transport Airplane Directorate; or the Civil Aviation Authority (or its delegated agent).

Note 2: The service bulletin refers to BAE Systems (Operations) Limited Service Bulletin J41-55-002; currently at Revision 1, dated July 25, 1996; as an additional source of service information for accomplishing certain actions.

Alternative Methods of Compliance

(e) In accordance with 14 CFR 39.19, the Manager, International Branch, ANM-116, is authorized to approve alternative methods of compliance for this AD.

Note 3: The subject of this AD is addressed in British airworthiness directive 005-10-2002.

Issued in Renton, Washington, on November 12, 2003.
Kalene C. Yanamura,
Acting Manager, Transport Airplane Directorate, Aircraft Certification Service.

[FR Doc. 03-28734 Filed 11-17-03; 8:45 am]

BILLING CODE 4910-13-P